DEPARTMENT OF JUSTICE

Antitrust Division

Notice Pursuant to the National Cooperative Research and Production Act of 1993—Caterpillar Inc.: Consortium To Develop Positioning System for Machine Information System

Notice is hereby given that, on August 12, 2004, pursuant to section 6(a) of the National Cooperative Research and Production Act of 1993, 15 U.S.C. 4301 et seq. (“the Act”), Caterpillar Inc.: Consortium to Develop Positioning System for Machine Information System (“CAT”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Caterpillar Inc., Mossville, IL; and Applanix Corporation, Richmond Hill, Ontario, CANADA. The general areas of CAT's planned activities are to investigate methods to compensate for satellite shading that cause Caterpillar's information-based products such as CAES to cease giving useful positioning data. The activities of this Consortium will be partially funded by an award from the Department of Energy/National Energy Technology Laboratory.

Dorothy F. Fountain,
Deputy Director of Operations, Antitrust Division.

[FR Doc. 04-23510 Filed 10-20-04; 8:45 am]

BILLING CODE 4410-11-M